DEPARTMENT OF TRANSPORTATION

Federal Aviation Administration

14 CFR Parts 91, 121, 125, and 135

[Docket No. FAA-2022-0912; Notice No. 22-04]

RIN 2120-AL36

Updating Manual Requirements To Accommodate Technology

AGENCY: Federal Aviation Administration (FAA), Department of Transportation (DOT).

ACTION: Notice of proposed rulemaking (NPRM).

SUMMARY: The FAA proposes to update its manual requirements to reflect industry use of electronic and paper manuals. The amendments would apply to fractional ownership operations; domestic, flag, and supplemental operations; rules governing the operations of U.S.-registered civil airplanes which have a seating configuration of 20 or more passengers or a maximum payload capacity of 6,000 pounds or more when common carriage is not involved; and commuter and on-demand operations. The proposed action would require manuals accessed in paper format to display the date of last revision on each page, and require manuals accessed in electronic format to display the date of last revision in a manner in which a person can immediately ascertain it. This action would also revise the requirement for program managers or certificate holders to carry appropriate parts of the manual aboard airplanes during operations. This proposed rule would instead require program managers or certificate holders ensure the appropriate parts of the manual are accessible to flight, ground, and maintenance personnel when such personnel are performing their assigned duties. Lastly, the proposed rule would update outdated language that refers to accessing information in manuals kept in microfiche. The FAA proposes to remove this outdated language and simply require that all manual information and instructions be displayed clearly and be retrievable in the English language.

DATES: Send comments on or before September 12, 2022.

ADDRESSES: Send comments identified by docket number FAA-2022-0912 using any of the following methods:

• Federal eRulemaking Portal: Go to https://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at https://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Sandra Ray, Voluntary Programs and Rulemaking Section, Federal Aviation Administration, 800 Independence Avenue SW, Washington, DC 20591, telephone (412) 329-3088; email sandra.ray@faa.gov.

SUPPLEMENTARY INFORMATION:

I. Executive Summary

This rulemaking proposes several amendments in title 14, Code of Federal Regulations (14 CFR), parts 91 subpart K (part 91K), 121, 125, and 135 that would remove certain prescriptive manual requirements for certificate holders. First, this proposed rulemaking would amend §§ 91.1025, 121.135, 125.73, and 135.23 to remove the requirement to have the date of last revision on each page concerned as it applies to operators using electronic manuals. Further, this proposed rule would add a separate requirement to allow certificate holders using electronic manuals flexibility in displaying the date of last revision, while maintaining the existing requirement for certificate holders with paper manuals.

In addition, this rulemaking proposes clarifying in §§ 91.1023, 121.139, and 135.21 that appropriate parts of the manual must be accessible on each aircraft when away from their principal base of operations, in lieu of indicating that manuals must exist in any particular format. This rulemaking would provide certificate holders flexibility regarding how their flight, ground, and maintenance personnel access electronic manuals, and to obtain information in a manner that reflects current technological capabilities.¹

¹ Other regulations, such as 14 CFR 91.9, contain language that does not preclude referring to or carrying manuals that exist in an electronic format. This proposed rule does not address such regulations.

Lastly, this rulemaking proposes amendments in §§ 91.1023, 121.139, 125.71, and 135.21 to update language that requires certificate holders accessing manuals in “other than printed form,” ensure there is a “compatible reading device available to those persons that provides a legible image” or “a system that is able to retrieve the maintenance information and instructions in the English language.” The FAA proposes to replace this outdated language with a requirement that all manual information and instructions be displayed clearly and be retrievable in the English language.

II. Authority for This Rulemaking

The FAA's authority to issue rules on aviation safety is found in title 49 of the United States Code (U.S.C.). Subtitle I, section 106 describes the authority of the FAA Administrator. Section 106(f) vests final authority in the Administrator for carrying out all functions, powers, and duties of the Administrator relating to the promulgation of regulations and rules.

Subtitle VII, Aviation Programs, describes in detail the scope of the Agency's authority. Section 44701(a)(5) requires the Administrator to promulgate regulations and minimum standards for other practices, methods, and procedures necessary for safety in air commerce and national security. In addition, 49 U.S.C. 44701(d)(1)(A) specifically states the Administrator, when prescribing safety regulations, must consider the duty of an air carrier to provide service with the highest possible degree of safety in the public interest. Such authority applies to the oversight the FAA exercises to ensure safety of aviation operations, including review of manual information and instructions.

III. Background

FAA regulations require operators subject to parts 91K, 121, 125, or 135 to prepare and keep current operations manuals for use and guidance of flight, ground operations, and management personnel. These manuals must contain specific information about operations and must include the names of management personnel; copies of operations specifications; and many procedures for weight and balance calculations, accident notifications, airworthiness determinations, reporting mechanical irregularities, maintenance, and refueling.² Manuals ensure appropriate employees and contractors providing service for an operator are aware of the necessary steps for operating, moving, and servicing an aircraft in a safe manner.

² See 14 CFR 91.1025, 121.135, 125.73, 135.23.

Operators currently use electronic and internet-based technology to provide their flight, ground, and maintenance personnel with access to the manuals in a variety of formats, including electronic flight bags (EFB) and portable electronic devices (PED). Such technology has caused many operators to rely on manuals in electronic format, rather than accessing paper manuals.

Current manual requirements in applicable FAA regulations do not appropriately accommodate the use of electronic manuals. For example, the requirement that each page in a manual display the date it was last revised creates unnecessary barriers for operators that use electronic manuals. Specifically, electronic manuals in formats including Extensible Markup Language (XML) or Hypertext Markup Language (HTML) are not always paginated, making it unclear how to comply with this requirement.

Further, the requirement that some certificate holders “carry” appropriate parts of the manual on each aircraft when away from their principal base of operations does not reflect current technology. The FAA established this requirement when operators were only able to carry those manuals aboard airplanes to be used by personnel at out stations.³ Prior to the advent of electronic manuals and the internet, the requirement to carry physically the ground servicing and maintenance parts of the manual aboard an airplane was necessary to ensure the manual was available to personnel at out stations or other locations away from the certificate holder's principal base of operations. Those personnel at out stations did not always have their own manuals, or access to necessary manuals, so they relied on the airplane to carry the manuals to them. Technological advancements have now rendered this prescriptive requirement unnecessary because accessing electronic manuals is significantly easier for flight, ground, and maintenance personnel.

³ See discussion in section IV.B. of this preamble.

Lastly, the language that requires operators accessing manuals in “other than printed form,” to ensure there is a “compatible reading device available to those persons that provides a legible image” or “a system that is able to retrieve the maintenance information and instructions in the English language” is outdated. The FAA promulgated this text during an era when certificate holders used microfiche technology to store and read manual information. Overall, the existing requirements do not reflect current technology.

IV. Discussion of the Proposed Rule

A. Date of Revision Display: §§ 91.1025, 121.135, 125.73, and 135.23

Current Requirement

In addition to requirements to establish manuals and have them contain specific information, FAA regulations also require manuals to remain up-to-date. Sections 91.1025, 121.135, 125.73, and 135.23 require each manual to display the date it was last revised on the revised page. The FAA established this requirement when operators used paper manuals; as a result, the requirement does not accommodate electronic manuals, which may not have traditional pages.

Including revision dates on each page is a means of ensuring flightcrew members and inspectors have current information pertinent to operations. When utilizing paper manuals, the only method to verify that the manual is current is to look at the revision date on each page. With electronic manuals, however, operators can efficiently provide updates to a manual, and personnel can access the most recent manual in real time via a web portal. Personnel and inspectors may be able to identify the revision date of the manual on an electronic device using the date the manual was last downloaded or the date the manual was last accessed through a web portal.

Operators conducting operations under parts 91K, 121, 125, or 135 are currently permitted to use manuals that are in electronic or paper format. The FAA has approved the use of electronic manuals for these operators through the use of Operation Specification (OpSpec) A025 or Management Specification (MSpec) MA025.⁴ For example, the FAA has issued eight part 91K operators MSpec MA025 for electronic signatures, electronic recordkeeping systems and electronic manual systems.⁵ In addition, the FAA is aware that certificate holders operating under part 121 currently provide their flightcrew members with access to the manual in a variety of formats, including EFBs ⁶ and PEDs.⁷ At least 58 part 121 operators have authorization under OpSpec A025 for the use of electronic manuals.⁸ Further, the FAA has issued 27 part 125 certificate holders and A125 letter of deviation authority (LODA) holders an OpSpec A025 to allow the use of electronic signatures, electronic recordkeeping systems, and electronic manual systems.⁹ Moreover, the FAA has issued at least 471 part 135 certificate holders an OpSpec A025 for the use of electronic manuals.¹⁰

⁴ Operation Specification A025 and Management Specification MA025 provide a table for listing the Master Manual containing an electronic manual system description and list of electronic manuals, as applicable. In addition, the table provides a place to record the date of the latest manual revision and revision number. OpSpec A025 and MSpec MA025 states the electronic manual system will be used to maintain, distribute, and make available the certificate holders manual in accordance with the applicable rule(s) of parts 91K, 125, or 135.

⁵ FAA Safety Performance Analysis System SPAS (release 2.41.161).

⁶ Advisory Circular 120-76D (Oct. 27, 2017) describes an EFB as “any device, or combination of devices, actively displaying EFB applications” and EFB applications as “generally replacing conventional paper products and tools, traditionally carried in the pilot's flight bag. EFB applications include natural extensions of traditional flight bag contents, such as replacing paper copies of weather with access to near-real-time weather information.” This document can be accessed at https://www.faa.gov/regulations_policies/advisory_circulars/index.cfm/go/document.information/documentID/1032166.

⁷ A portable electronic device refers to a cellular phone, laptop, tablet, or other portable electronic device on which the manual can be downloaded or accessed via the internet. Advisory Circular 120-76D (Oct. 27, 2017) describes these devices as “consumer commercial off-the-shelf (COTS) electronic devices functionally capable of communications, data processing, and or/utility[.]” This document can be accessed at https://www.faa.gov/regulations_policies/advisory_circulars/index.cfm/go/document.information/documentID/1032166.

⁸ FAA Web-based Operations Safety System, accessed on Nov. 3, 2020.

⁹ FAA Safety Performance Analysis System (release 2.41.161).

¹⁰ FAA Web-based Operations Safety System, accessed on Nov. 3, 2020.

As previously mentioned, the FAA promulgated the requirement to display the revision date on each revised page of the manual when manuals were not available in electronic form. The current requirement does not contemplate the developments in technology, which have provided operators with options for various electronic formats for manuals. This proposed rule would ensure operators that operate under the current inaccurate revision display date requirement, and that may use manuals in electronic formats, such as XML or HTML, are able to comply easily with the requirement to display a revision date, in a manner that is consistent with updated manual display technology.

The introductory paragraphs of §§ 91.1025, 125.73, and 135.23 set forth the requirement that manuals have the date of the last revision on each revised page. Section 121.135(a)(3) contains similar language, requiring the manual to “have the date of last revision on each page concerned.” The date of revision display for all four sections does not reflect use of manuals in an electronic format that does not have traditional pages.

For years, the air carrier industry has recommended updates to § 121.135(a)(3). In 2017, the FAA tasked the Aviation Rulemaking Advisory Committee (ARAC) to consider (1) recommendations on existing regulations that are good candidates for repeal, replacement, or modification and (2) recommendations on regulatory action identified in FAA's regulatory agenda. The ARAC working group provided the FAA a report, (ARAC Input to Support Regulatory Reform of Aviation Regulations), that characterized the requirement in § 121.135(a)(3) as “outdated, unnecessary or ineffective.” The ARAC Input to Support Regulatory Reform of Aviation Regulations report recommended removing the requirement to have a date of last revision on each page, because no page numbers exist in electronic documents formatted in XML or HTML, which are the two main formats used in electronic manuals.¹¹

¹¹ ARAC Input to Support Regulatory Reform of Aviation Regulations-ARAC Addendum Report, 82 FR 19783 (Sep. 12, 2017), p. 81. This document is available at https://www.faa.gov/regulations_policies/rulemaking/committees/documents/media/Phase%202%20Report_Final%20Recommendations_Post%20ARAC%20Mt_Sept%2018%20(1).pdf.

In addition to input on the ARAC Input to Support Regulatory Reform of Aviation Regulations report, at least one major air carrier has petitioned for, and received, an exemption to permit use of electronic digital technology to display the revision date in lieu of having the last revision date on each page of the manual.¹² In granting the exemption, the FAA determined the electronic retrieval of technical data improved data accessibility, quality control, and speed of distribution, which could result in enhanced safety and rapid access to data. The FAA also acknowledged that traditional printed pages may not always exist within an electronic system, and that other acceptable means are available to determine the revision status. The FAA determined under 49 U.S.C. 44701(f) that granting an exemption from the requirement of § 121.135(a) was in the public interest. The FAA also stated in the exemption that it intended to clarify the requirement in a future rulemaking.

¹² See the following FAA grant of petition for exemption: Docket No. FAA-2000-8525. This exemption is available at https://www.regulations.gov.

Proposed Rule Amendments

As previously discussed, §§ 91.1025, 125.73, and 135.23 have introductory paragraphs that require manuals to have the date of the last revision on each page. The FAA proposes amending these introductory paragraphs to state that each manual accessed in paper format must display the date of last revision on each page and that each manual accessed in electronic format must display the date of last revision in a manner in which a person can immediately ascertain it. The FAA proposes similar revisions to § 121.135, as it contains the same language requiring manuals have the date of last revision on each page revised. In this regard, the FAA proposes to revise § 121.135(a) such that it includes the same regulatory text as it proposes to add to the other regulatory sections as discussed above. This proposed rule would also remove § 121.135(a)(3) because it contains the requirement to “have the date of last revision on each page concerned,” which would be duplicative of the proposed language in § 121.135(a). As a result, this proposed rule would designate § 121.135(a)(4) as § 121.135(a)(3).

The FAA recognizes that manuals may be divided into many parts, some of which may be available in paper form and some in electronic form. The FAA does not propose to include language describing this in the regulatory text. This proposed rule would require that, if a manual is divided into parts, the date of last revision for each part must be immediately available in either paper form or electronic form, as applicable.

Allowing flexibility in displaying the date of last revision for an electronic manual is consistent with applicable safety standards that apply to the FAA and to operators under 49 U.S.C. 44701. This proposed rule would provide flexibility for the revision display date for electronic manuals, but would not remove the underlying requirement that the date of revision be displayed and ascertainable to the viewer of the manual.

To conform with the purpose of this proposed rule, the FAA proposes to further amend the introductory paragraph of § 125.73. While all of the above referenced sections currently contain the requirement concerning the date of last revision on each revised page, the introductory paragraph of § 125.73 includes an additional requirement that each manual have the “revision number” on each revised page.

The manual revision requirement in the introductory paragraph of § 125.73 should be consistent with the requirement in the associated sections in parts 91K, 121, and 135. Furthermore, displaying the date of the last revision on each page for paper manuals and in a manner in which a person can immediately ascertain for electronic manuals is sufficient to ensure flightcrew members and inspectors are able to identify the date of last revision or ensure the manual is up-to-date. Therefore, the FAA proposes amending the introductory paragraph of § 125.73 to remove the requirement that each manual include the “revision number” on each revised page.

B. Manual Carriage Requirement: §§ 91.1023, 121.139, and 135.21

Current Requirement

Sections 91.1023, 121.139, and 135.21 ¹³ require operators to carry appropriate parts of the manual on board each airplane for use by ground, flight, or maintenance personnel. The requirement includes an exception. In part 121, certificate holders need not carry maintenance parts of the manual on the airplane if en route to specified stations at which they conduct all scheduled maintenance. In parts 91K and 135, the exception applies to the approved aircraft inspection program manual.

¹³ The FAA has determined that due to the unique language of the similar requirement in § 125.71, amendment to that section is not necessary for this issue and the language in § 125.71 is sufficient for operations involving non-common carriage.

The FAA established this requirement when operators did not have the means to readily provide access to manuals, other than to carry those manuals aboard airplanes to be used by personnel at out stations.¹⁴ Prior to the advent of electronic manuals and the internet, the requirement to carry physically the ground servicing and maintenance parts of the manual aboard an airplane was necessary to ensure the manual was available to personnel at out stations or other locations away from the operator's principal base of operations. Those personnel at out stations did not always have their own manuals, nor access to manuals, so they relied on each airplane to deliver the appropriate manuals.

¹⁴ See section IV.B. of this rule for further discussion.

While these regulations allow operators to carry this manual in electronic form,¹⁵ the underlying requirement to carry appropriate parts of the manual on board each airplane for use by ground, flight, or maintenance personnel is no longer necessary. Most operators already provide personnel at all stations with access to the appropriate manuals necessary for servicing the airplane. Therefore, these personnel do not need to rely on the incoming airplane to carry the manual to them.

¹⁵ For example, in 1997, the FAA amended § 121.139 to reflect the revisions the FAA made to § 121.133, which allowed a certificate holder to prepare its manual in “any form acceptable to the Administrator.” The resulting change removed the language that limited certificate holders to printed form or microfiche, and allowed the maintenance part of the manual in “other than printed form.” FAA guidance interprets “other than printed form” to give certificate holders flexibility to determine whether to furnish the manual in paper or electronic form, as long as they are accessible and up-to-date.

Section 121.139 sets forth the specific manual carriage requirements for certificate holders conducting supplemental operations. Under § 121.139(a), certificate holders conducting supplemental operations must carry appropriate parts of the manual on each airplane when away from their principal base of operations and the appropriate parts must be available for use by ground and flight personnel. In addition, § 121.139(a) currently contains requirements specific to the maintenance part of the manual. Specifically, paragraph (a) requires that, if the certificate holder carries aboard an airplane all or any portion of the maintenance part of its manual in other than printed form, they must also carry a compatible reading device that produces a legible image of the maintenance information and instructions or have a system that is able to retrieve the maintenance information in the English language. However, § 121.139(b) states that if a certificate holder is able to perform all scheduled maintenance at the specified stations at which it keeps maintenance parts of the manual, it does not have to carry those parts of the manual aboard the airplane en route to those specific stations.

Similarly, §§ 91.1023 and 135.21 state that if a program manager (part 91K) or certificate holder (part 135) conducts airplane inspections or maintenance at specified stations or facilities where it keeps the approved inspection program manual available, it is not required to carry the manual aboard the airplane en route to those stations.

Under the existing regulatory text, program managers and certificate holders must “carry” maintenance parts of the manual aboard the airplane in electronic or paper form. Requiring tangible maintenance portions of a manual to be physically aboard an aircraft during flight is unnecessary because this information is available at the stations to which an operator conducts operations.

Input From Air Carrier Industry on § 121.139

The 2017 ARAC Input to Support Regulatory Reform of Aviation Regulations report asserted that no safety justification exists for continuing to require physical carriage of maintenance information on the airplane because most certificate holders use manuals that are available electronically.¹⁶ In addition, the report recommended the FAA modify the regulation to allow certificate holders to use any type of media or means to make appropriate parts of the manual available, as needed.

¹⁶ ARAC Input to Support Regulatory Reform of Aviation Regulations-ARAC Addendum Report (Sept. 12, 2017) at 74. This Report is available at https://www.faa.gov/regulations_policies/rulemaking/committees/documents/media/Phase%202%20Report_Final%20Recommendations_Post%20ARAC%20Mt_Sept%2018%20(1).pdf.

For years, the air carrier industry has recommended that the FAA make amendments to § 121.139 that reflect the new technology used to access manuals at out stations. Certificate holders expressed their viewpoint that carrying maintenance parts of the manual aboard airplanes is unnecessary. For example, Airlines for America (A4A) recommended the FAA change the requirement to apply only to parts of the manual that are essential to flightcrews.¹⁷ They stated the promulgation of the rule preceded the advent of instant global communications, which now make it possible for certificate holders to maintain and transmit relevant parts of the manual with the most recent updates at virtually any time and location in the world. A4A recommended the FAA amend the regulation to enable certificate holders to conduct supplemental operations without carrying parts of the manual that are not required or that essential flightcrews do not utilize.

¹⁷ Notification of Regulatory Review, Comments of Airlines for America, Part Three: Proposals for Repeal or Amendment of Existing FAA and PHMSA Regulations, DOT-OST-2017-0069, pp. 10-13. This document is available at www.regulations.gov.

In addition, in 2004, in response to the FAA's published notice in the Federal Register asking the public to advise the FAA on which regulations the FAA should amend, the FAA received 97 comments.¹⁸ One such comment, from the National Air Carrier Association, suggested that the FAA delete § 121.139 entirely because it is unnecessary, given current developments in technology.¹⁹

¹⁸ Review of Existing Regulations, 69 FR 8575 (Feb. 25, 2004).

¹⁹ Review of Existing Regulations, 72 FR 34999, 35003 (Jun 26, 2007).

Furthermore, several major air carriers have petitioned the FAA for exemption from the requirement in § 121.139 or requested an interpretation of the requirement,²⁰ in which they expressed concern about carrying the appropriate parts of the maintenance manual aboard the airplane. These petitions for exemption and requests for interpretation contend that a certificate holder's ability to keep the manual stored electronically will result in the manual always being available to ground and maintenance personnel. The petitions and requests assert that the focus of the requirement should be on availability and accessibility of the manual, rather than the manual being physically located on the airplane. They also emphasize that certificate holders have policies and procedures to ensure personnel have access to the manual information, even in the event of an electronic malfunction.

²⁰ See the following FAA denials of petition for exemption: Docket No. FAA-2012-0113 (issued Dec. 26, 2012); Docket No. 29561 (issued June 28, 2000); and Docket No. 26759 (issued Nov. 16, 1992). See also Letter of Interpretation to Christian Torro/Southwest Airlines Co. from Rebecca B. MacPherson, Assistant Chief Counsel for Regulations (Oct. 19, 2009); Letter of Interpretation to Thomas Durrant-SPMI SWA CMO from Rebecca MacPherson, Assistant Chief Counsel for Regulations (May 17, 2011); Letter of Interpretation to Michael Keller/American Airlines from Rebecca B. MacPherson, Assistant Chief Counsel for Regulations (Oct. 20, 2010). Exemption decisions are available at www.regulations.gov. FAA interpretations are available at https://www.faa.gov/about/office_org/headquarters_offices/agc/practice_areas/regulations/interpretations/.

Proposed Rule Amendments to §§ 91.1023, 121.139, and 135.21

The requirements of §§ 91.1023, 121.139, and 135.21 should reflect the current ability to access the manual using electronic devices, to download the manual or access it via the internet. The proposed amendments to §§ 91.1023, 121.139, and 135.21 would give certificate holders flexibility to use technology in providing access to the electronic manual. Specifically, this proposed rule would remove the requirement that certificate holders “carry” appropriate parts of the manual on each airplane when away from its principal base of operations. This proposed rule would replace the word “carry” or “carried” in the aforementioned sections with the requirement to ensure parts of the manual associated with personnel's assigned duties are accessible for flight, ground, and maintenance personnel, “at all times when those personnel are performing their duties.” This proposed language would ensure personnel always have access to the necessary information while performing their assigned duties. This proposed language achieves the objective of the existing language of §§ 91.1023, 121.139, and 135.21 because it ensures that wherever a certificate holder conducts its operations, the flight, ground, and maintenance personnel have access to the necessary parts of the manual.

The FAA acknowledges that these proposed revisions to §§ 91.1023, 121.139, and 135.21 could result in reliability concerns regarding certificate holders' ability to maintain consistent access to its manuals, e.g., during electronic or internet outages. However, the proposed text requires personnel always have access to the relevant manual's information when they are performing their assigned duties. By using performance-based language to require certificate holders ensure availability when these personnel are performing their assigned duties, the proposed regulatory text indicates certificate holders should maintain policies and procedures to address circumstances in which an electronic or internet outage may occur.

The previously discussed amendments to § 121.139 would result in the removal of paragraphs (a) and (b), replacing them with a single paragraph. Further, the FAA proposes to amend § 121.139 by changing the section heading to read “Manual accessibility: Supplemental operations.” The FAA does not propose any changes to the section headings of §§ 91.1023, 125.71, or 135.21 because they do not contain similar language.

C. Compatible Reading Device Update: §§ 91.1023, 121.139, 125.71, & 135.21

Sections 91.1023(g), 121.139(a), 125.71(f), and 135.21(g) require that, when manuals exist in other than printed form, certificate holders must carry compatible reading devices that provide legible images of maintenance information and instructions. In addition, certificate holders must have a system that is able to retrieve the maintenance information and instructions in the English language. The FAA promulgated these requirements when certificate holders used microfiche technology to ensure the information was readable, or retrievable, in the English language.

This proposed rule would amend §§ 91.1023(g), 121.139, 125.71(f), and 135.21(g) to require that all manual information and instructions be displayed clearly and be retrievable in the English language. Removing the compatible reading device requirement is appropriate because electronic manuals do not require a separate, compatible reading device to view the manual information. This proposed rule would require all manual information and instructions be accessible to the appropriate personnel, and appear in a manner in which they can read and comprehend the necessary provisions. Due to FAA oversight of certificate holders' manuals, such manual information and instructions must be readable and retrievable in the English language for the FAA to review and approve the manual. Therefore, the requirement that all manual information and instructions under §§ 91.1023, 121.139, 125.71, and 135.21 be readable and retrievable in the English language codifies current practice and brings this regulatory requirement up-to-date.

V. Regulatory Notices and Analyses

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $158,000,000, using the most current (2020) Implicit Price Deflator for the Gross Domestic Product. This portion of the preamble summarizes the FAA's analysis of the economic impacts of this rule.

In conducting these analyses, the FAA has determined that this proposed rule: (1) would result in benefits that justify costs; (2) is not a “significant regulatory action” as defined in section 3(f) of Executive Order 12866; (3) would not have a significant economic impact on a substantial number of small entities; (4) would not create unnecessary obstacles to the foreign commerce of the United States; and (5) would not impose an unfunded mandate on State, local, or tribal governments, or on the private sector.

A. Regulatory Impact Analysis

The FAA estimates the proposed rulemaking would not result in additional costs to affected operators that conduct operations under parts 91K, 121, 125, and 135. The proposal would provide flexibility for the efficient use of electronic manuals for these operators. The proposed requirements would also ensure consistency for manual requirements for these operators. These flexibilities may reduce administrative costs of maintaining and providing manual accessibility to these operators. The FAA determines the proposal would not adversely affect safety.

This proposed rulemaking would update the manual display requirements for these affected operators to accommodate electronic manuals. In particular, this proposal would remove the requirement to have the date of last revision on each page concerned as it applies to operators using electronic manuals. This proposed rulemaking would add a separate requirement to allow operators using electronic manuals flexibility in displaying the date of last revision, while maintaining the existing requirement for operators with paper manuals.

This proposal would also revise the current requirement to physically carry appropriate parts of the manual aboard airplanes for these operators. As a result, operators would have flexibility regarding how flight, ground, and maintenance operators use electronic manuals, and provide access to each manual's information in a manner that reflects current technological capabilities.

Based on information from industry, affected operators currently provide their flightcrew personnel with access to manuals in electronic formats, including EFBs and PEDs. In addition, most operators currently provide ground and maintenance personnel at their stations access to the manual information necessary for ground handling and servicing of aircraft through electronic devices such as computers and PEDs.

The FAA expects the incremental changes from this proposed rulemaking would provide additional flexibilities to these operators for the efficient use of electronic manuals with no additional costs. These flexibilities may result in savings from avoided costs to these operators of maintaining and providing access to manuals for flightcrew, ground and maintenance personnel. The FAA did not identify data to quantify with certainty the incremental savings of this proposed rulemaking and the flexibilities it would provide to operators conducting operations under parts 91K, 125, and 135 affected operators.

The ARAC report provided information and insight on the potential costs and savings related to certain part 121 operators conducting operations to ensure appropriate parts of the manual are available for use by ground and maintenance personnel.²¹ The report found technological advances and the availability of internet connections have eliminated the need for paper manuals to these operators.

²¹ ARAC Input to Support Regulatory Reform of Aviation Regulations-ARAC Addendum Report at 74 (Sept. 12, 2017), available at https://www.faa.gov/regulations_policies/rulemaking/committees/documents/media/Phase%202%20Report_Final%20Recommendations_Post%20ARAC%20Mt_Sept%2018%20(1).pdf.

The report identified potential cost savings would include a reduction in weight through the elimination of paper manuals compared to equipment associated with non-paper manuals and a reduction in time auditing, updating and printing paper manuals. In the report, one A4A member reports annual costs of approximately $500,000 because they claim the current regulation for operators of part 121 airplanes creates a requirement for paper manuals.²² If this is representative of current costs for all 64 affected part 121 operators,²³ then the estimated annual savings would be $32,000,000 (= $500,000 × 64). Over a five-year period of analysis, the present value savings would be approximately $146.6 million at a three percent discount rate or approximately $132.2 million at a seven percent discount rate. The FAA notes that this cost saving estimate is conservative because the ARAC report only provided information for one part 121 operator and this proposal also affects operators in parts 91K, 125, and 135 service.

²² It is unclear if this estimate is net of incremental costs that would occur due to this proposal and does not include costs that would result regardless of this change.

²³ At the time of writing, there were 64 active part 121 certificate holders (data accessed January 14, 2022).

The FAA requests information and data that can be used to quantify additional savings of this proposed rulemaking. Please provide references and sources for information and data.

The changes in this proposed rulemaking would not have an adverse impact on safety because flightcrew members or inspectors would continue to be able to identify and ensure the manual or appropriate part is up-to-date. Likewise, the proposed changes to manual accessibility to these operators would have no adverse impact on safety because flight, ground and maintenance personnel would have access to the necessary parts of the manual wherever these operators conducts their operations.

In addition, the FAA has determined no adverse safety implication would result from the proposal for flightcrews and other personnel because such personnel are required to have access to parts of the manual that are appropriate to their assigned duties when they are performing those duties. This proposed rule alone would not result in new logistical issues related to connectivity because much of the current baseline maintenance activities rely on connectivity. In addition, as discussed in the ARAC report, in the unlikely event that connectivity is problematic or the on-ground electronic means is interrupted, maintenance activities would temporarily halt. While this may affect operations, it would ensure that no adverse effect on safety occurs. The FAA invites comments on these findings.

B. Regulatory Flexibility Act

The Regulatory Flexibility Act (RFA) of 1980, Public Law 96-354, 94 Stat. 1164 (5 U.S.C. 601-612), as amended by the Small Business Regulatory Enforcement Fairness Act of 1996 (Pub. L. 104-121, 110 Stat. 857, Mar. 29, 1996) and the Small Business Jobs Act of 2010 (Pub. L. 111-240, 124 Stat. 2504, Sept. 27, 2010), requires Federal agencies to consider the effects of the regulatory action on small business and other small entities and to minimize any significant economic impact. The term “small entities” comprises small businesses and not-for-profit organizations that are independently owned and operated and are not dominant in their fields, and governmental jurisdictions with populations of less than 50,000.

This proposal would remove the requirement to have the date of last revision on each page concerned, as it applies to parts 91K, 121, 125, and 135 operators using electronic manuals and add a separate requirement that allows operators using electronic manuals flexibility in displaying the date of last revision, while maintaining the requirement for operators using paper manuals. This proposed rulemaking would also revise the current requirement to carry appropriate parts of the manual aboard airplanes for these operators. As a result, this proposal would provide operators with flexibility regarding how flight, ground, and maintenance personnel access the appropriate parts of the manual. The proposed rulemaking, therefore, would enable these operators to use electronic manuals efficiently and provide access to the manual information in a manner that reflects current technological capabilities.

The proposed rulemaking would not result in additional costs to affected operators. The proposed rulemaking does not mandate the use of an electronic format for manuals. Rather, the proposal would provide flexibility for the efficient use of electronic manuals. Such flexibility may reduce administrative costs of maintaining and providing manual accessibility to these operators. In addition, the FAA estimates that some operators would not incur savings from this proposed rule because they might currently benefit from these flexibilities.

Therefore, as provided in 5 U.S.C. 605(b), the head of the FAA certifies that this proposed rulemaking would not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety and does not operate in a manner that excludes imports that meet this objective. The statute also requires consideration of international standards and, where appropriate, that they be the basis for U.S. standards. The FAA has assessed the potential effect of this proposed rulemaking and determined that it would have only a domestic impact and therefore would not create obstacles to the foreign commerce of the United States.

D. Unfunded Mandates Assessment

The Unfunded Mandates Reform Act of 1995 (2 U.S.C. 1531-1538) governs the issuance of Federal regulations that require unfunded mandates. An unfunded mandate is a regulation that requires a State, local, or tribal government or the private sector to incur direct costs without the Federal government having first provided the funds to pay those costs. The FAA determined that the proposed rulemaking would not result in the expenditure of $158,000,000 or more by State, local, or tribal governments, in the aggregate, or the private sector, in any one year.

E. Paperwork Reduction Act

The Paperwork Reduction Act of 1995 (44 U.S.C. 3507(d)) requires that the FAA consider the impact of paperwork and other information collection burdens imposed on the public. This proposed rule would not include any new requirement for information collection or changes to existing information collections associated with this proposed rule. The existing information collection associated with all part 121 manual requirements was approved under OMB control number 2120-0008, Part 121 Operating Requirements: Domestic, Flag, and Supplemental Operations. The information collection estimates the cost for the original manual for original certification, and the cost of manual revisions. The information collection attributes the burden associated with manual revision to § 121.133 and does not attribute any burden to § 121.139. The FAA has determined this proposed rulemaking would not require any adjustment in the estimate of public or government burden under the Paperwork Reduction Act.

The existing information collection associated with all part 135 manual requirements was approved under OMB control number 2120-0039, Part 135—Operating Requirements: Commuter and On-demand Operations and Rules Governing Persons on Board such Aircraft. This collection attributes the burden with manuals to § 135.21. The FAA has determined this proposed rule would not require any adjustment in the estimate of public or government burden under the Paperwork Reduction Act.

The existing information collection associated with all part 125 manual requirements was approved under OMB control number 2120-0085, Certification and Operations: Airplanes with Seating Capacity of 20 or More Passenger Seats or Maximum Payload of 6,000 Pounds or More—14 CFR part 125. This collection associates the burden with manuals to § 125.71. The FAA has determined this proposed rulemaking would not require any adjustment in the estimate of public or government burden under the Paperwork Reduction Act.

The existing information collection associated with all 14 CFR part 91 subpart K (91K) was approved under OMB control number 2120-0684, Fractional Ownership Programs. This collection attributes the burden with manuals to § 91.1023. The FAA has determined this proposed rulemaking would not require any adjustment in the estimate of public or government burden under the Paperwork Reduction Act.

F. International Compatibility and Cooperation

In keeping with U.S. obligations under the Convention on International Civil Aviation, it is FAA policy to conform to International Civil Aviation Organization (ICAO) Standards and Recommended Practices to the maximum extent practicable. The FAA has reviewed ICAO Standards and Recommended Practices, and identified no differences with any standards and recommended practices.

G. Environmental Analysis

FAA Order 1050.1F (Jul. 16, 2015) identifies FAA actions that are categorically excluded from preparation of an environmental assessment or environmental impact statement under the National Environmental Policy Act in the absence of extraordinary circumstances. The FAA has determined this rulemaking action qualifies for the categorical exclusion identified in paragraph 5-6.6f for regulations and involves no extraordinary circumstances.

VI. Executive Order Determinations

A. Executive Order 13132, Federalism

The FAA has analyzed this proposed rulemaking under the principles and criteria of Executive Order 13132, Federalism. The Agency has determined that this action would not have a substantial direct effect on the States, or the relationship between the Federal Government and the States, or on the distribution of power and responsibilities among the various levels of government and therefore, would not have federalism implications.

B. Executive Order 13211, Regulations That Significantly Affect Energy Supply, Distribution, or Use

The FAA analyzed this proposed rulemaking under Executive Order 13211, Actions Concerning Regulations that Significantly Affect Energy Supply, Distribution, or Use. The Agency has determined that it would not be a “significant energy action” under the executive order and would not be likely to have a significant adverse effect on the supply, distribution, or use of energy.

C. Executive Order 13609, International Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VII. Additional Information

A. Comments Invited

The FAA invites interested persons to participate in this rulemaking by submitting written comments, data, or views. The Agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The Agency may change this proposal in light of the comments it receives.

B. Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person identified in the FOR FURTHER INFORMATION CONTACT section of this document. Any commentary that the FAA receives which is not specifically designated as CBI will be placed in the public docket for this rulemaking.

C. Electronic Access and Filing

A copy of this notice of proposed rulemaking, all comments received, any final rule, and all background material may be viewed online at https://www.regulations.gov using the docket number listed above. A copy of this proposed rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this proposed rule, including economic analyses and technical reports, may be accessed in the electronic docket for this rulemaking.

List of Subjects

14 CFR Part 91

Air carriers, Air taxis, Aircraft, Airports, Aviation safety, Charter flights, Freight, Reporting and recordkeeping requirements, Transportation.

14 CFR Part 121

Air carriers, Aircraft, Airmen, Aviation safety, Charter flights, Reporting and recordkeeping requirements, Safety, Transportation.

14 CFR Part 125

Aircraft, Airmen, Aviation safety, Reporting and recordkeeping requirements.

14 CFR Part 135

Air taxis, Aircraft, Airmen, Aviation safety, Reporting and recordkeeping requirements.

The Proposed Amendment

In consideration of the foregoing, the Federal Aviation Administration proposes to amend chapter I of title 14, Code of Federal Regulations as follows:

PART 91—GENERAL OPERATING AND FLIGHT RULES

1. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Aviation (61 Stat. 1180), (126 Stat. 11).

2. Amend § 91.1023 by revising paragraphs (f) and (g); removing paragraph (h); and redesignating paragraph (i) as paragraph (h). The revisions read as follows:

§ 91.1023 Program operating manual requirements.

* * * * *

(f) The program manager must ensure the appropriate parts of the manual are accessible to flight, ground, and maintenance personnel at all times when such personnel are performing their assigned duties.

(g) The information and instructions contained in the manual must be displayed clearly and be retrievable in the English language.

* * * * *

3. Amend § 91.1025 by revising the introductory text to read as follows:

§ 91.1025 Program operating manual contents.

Each program operating manual accessed in paper format must display the date of last revision on each page. Each program operating manual accessed in electronic format must display the date of last revision in a manner in which a person can immediately ascertain it. Unless otherwise authorized by the Administrator, the manual must include the following:

* * * * *

PART 121—OPERATING REQUIREMENTS: DOMESTIC, FLAG, AND SUPPLEMENTAL OPERATIONS

4. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95 126 Stat 62 (49 U.S.C. 44732 note); Pub. L. 115-254, 132 Stat 3281 (49 U.S.C. 44903 note).

5. Amend § 121.135 by revising paragraphs (a) introductory text and (a)(3) to read as follows:

§ 121.135 Manual Contents.

(a) Each manual required by § 121.133 must:

* * * * *

(3) If accessed in paper format, display the date of last revision on each page; if accessed in electronic format, display the date of last revision in a manner in which a person can immediately ascertain it; and

* * * * *

6. Revise § 121.139 to read as follows:

§ 121.139 Manual accessibility: Supplemental operations.

Each certificate holder conducting supplemental operations must ensure the appropriate parts of the manual are accessible to flight, ground, and maintenance personnel at all times when such personnel are performing their assigned duties. The information and instructions contained in the manual must be displayed clearly and be retrievable in the English language.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

7. The authority citation for part 125 continues to read as follows:

Authority: 49 U.S.C. 106(f), 106(g), 40113, 44701-44702, 44705, 44710-44711, 44713, 44716-44717, 44722.

8. Amend § 125.71 by revising paragraph (f) to read as follows:

§ 125.71 Preparation.

* * * * *

(f) The information and instructions contained in the manual must be displayed clearly and be retrievable in the English language.

* * * * *

9. Amend § 125.73 by revising the introductory text to read as follows:

§ 125.73 Contents.

Each manual accessed in paper format must display the date of last revision on each page. Each manual accessed in electronic format must display the date of last revision in a manner in which a person can immediately ascertain it. The manual must include:

* * * * *

PART 135—OPERATING REQUIREMENTS: COMMUTER AND ON DEMAND OPERATIONS AND RULES GOVERNING PERSONS ON BOARD SUCH AIRCRAFT

10. The authority citation for part 135 continues to read as follows:

Authority: 49 U.S.C. 106(f), 106(g), 41706, 40113, 44701-44702, 44705, 44709, 44711-44713, 44715-44717, 44722, 44730, 45101-45105; Pub. L. 112-95, 126 Stat. 58 (49 U.S.C. 44730).

11. Amend § 135.21 by revising paragraphs (f) and (g); and removing paragraph (h). The revisions read as follows:

§ 135.21 Manual requirements.

* * * * *

(f) The certificate holder must ensure the appropriate parts of the manual are accessible to flight, ground, and maintenance personnel at all times when such personnel are performing their assigned duties.

(g) The information and instructions contained in the manual must be displayed clearly and be retrievable in the English language.

12. Amend § 135.23 by revising the introductory text to read as follows:

§ 135.23 Manual contents.

Each manual accessed in paper format must display the date of last revision on each page. Each manual accessed in electronic format must display the date of last revision in a manner in which a person can immediately ascertain it. The manual must include:

* * * * *

Issued in Washington, DC, under authority provided by 49 U.S.C. 106(f), 106(g), and 44701(a)(5).
Robert C. Carty,
Deputy Executive Director, Flight Standards Service.

[FR Doc. 2022-14814 Filed 7-13-22; 8:45 am]

BILLING CODE 4910-13-P